DEPARTMENT OF COMMERCE

International Trade Administration

[A-583-831]

Notice of Extension of the Time Limit for Preliminary Results of Antidumping Duty Administrative Review: Stainless Steel Sheet and Strip in Coils From Taiwan

AGENCY: Import Administration, International Trade Administration, Department of Commerce.

EFFECTIVE DATE: January 12, 2001.

FOR FURTHER INFORMATION CONTACT: Michael Panfeld, AD/CVD Enforcement Group III, Office 9, Import Administration, International Trade Administration, U.S. Department of Commerce, 14th Street and Constitution Avenue, N.W., Washington, D.C. 20230; telephone: (202) 482-0172.

SUPPLEMENTARY INFORMATION:

The Applicable Statute

Unless otherwise indicated, all citations to the Tariff Act of 1930, as amended (the Act) are to the provisions effective January 1, 1995, the effective date of the amendments made to the Act by the Uruguay Round Agreements Act.

Background

On September 6, 2000, the Department published a notice of initiation of the administrative review of the antidumping duty order on Stainless Steel Sheet and Strip in Coils from Taiwan, covering the period June 8, 1999 through June 30, 2000 (65 FR 64662). The initiation was amended on November 30, 2000 (65 FR 71299).

Extension of Time Limit for Preliminary Results

Section 751(a)(3)(A) of the Act requires the Department to make a preliminary determination within 245 days after the last day of the anniversary month of an order or finding for which a review is requested. The preliminary results of this review are currently due no later than April 2, 2001. Because of the complex issues enumerated in the Memorandum from Edward C. Yang to Joseph A. Spetrini, Extension of Time Limit for the Preliminary Results of Administrative Review of Certain Stainless Steel Sheet and Strip in Coils from Taiwan, dated January 8, 2001, and on file in the Central Records Unit (CRU) of the Main Commerce Building, Room B-099, we find that it is not practicable to complete this review by the scheduled deadline. Therefore, in accordance with section 751(a)(3)(A) of the Act, the Department is extending the time period for issuing the preliminary results of review by 90 days (July 2, 2001).

Dated: January 8, 2001.
Joseph A. Spetrini,
Deputy Assistant Secretary, AD/CVD Enforcement Group III.

[FR Doc. 01-1108 Filed 1-11-01; 8:45 am]

BILLING CODE 3510-DS-P